DEPARTMENT OF VETERANS AFFAIRS

[OMB Control No. 2900-XXXX]

Agency Information Collection Activity Under OMB Review: Receipt of Supplies (Chapter 31—Veteran Readiness and Employment)

AGENCY: Veterans Benefits Administration, Department of Veterans Affairs.

ACTION: Notice.

SUMMARY: In compliance with the Paperwork Reduction Act (PRA) of 1995, this notice announces that the Veterans Benefits Administration (VBA), Department of Veterans Affairs (VA), will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-XXXX.”

FOR FURTHER INFORMATION CONTACT: Maribel Aponte, Office of Enterprise and Integration, Data Governance Analytics (008), 1717 H Street NW, Washington, DC 20006, (202) 266-4688 or email maribel.aponte@va.gov. Please refer to “OMB Control No. 2900-XXXX” in any correspondence.

SUPPLEMENTARY INFORMATION:

Authority: 38 United States Code (U.S.C.) 3104(a)(7).

Title: Receipt of Supplies (Chapter 31—Veteran Readiness and Employment), VA Form 28-1905r.

OMB Control Number: 2900-XXXX.

Type of Review: Request for approval of a new collection.

Abstract: A claimant will use VA Form 28-1905r, Receipt of Supplies (Chapter 31—Veteran Readiness and Employment), to verify that the supplies and/or equipment provided as part of a rehabilitation program under 38 U.S.C. Chapter 31 have been received and are in good condition. The VR&E program subsequently uses the information on this form to justify processing payments for the supplies and/or equipment provided to claimants under 38 U.S.C. 3104(a)(7). Without the information gathered on this form, the VR&E program would be unable to verify that the claimant received the supplies and/or equipment, which could result in inaccurate payments being rendered.

An agency may not conduct or sponsor, and a person is not required to respond to a collection of information unless it displays a currently valid OMB control number. The Federal Register Notice with a 60-day comment period soliciting comments on this collection of information was published on May 13, 2021 on page 26,257.

Affected Public: Individuals or Households.

Estimated Annual Burden: 4,667 hours.

Estimated Average Burden per Respondent: 10 minutes.

Frequency of Response: On occasion.

Estimated Number of Respondents: 28,000.

By direction of the Secretary.
Maribel Aponte,
VA PRA Clearance Officer, Office of Enterprise and Integration, Data Governance Analytics, Department of Veterans Affairs.

[FR Doc. 2021-17295 Filed 8-12-21; 8:45 am]

BILLING CODE 8320-01-P